DEPARTMENT OF AGRICULTURE

Agricultural Marketing Service

[Doc. No. AMS-LS-09-0017]

Lamb Promotion, Research, and Information Program

AGENCY: Agricultural Marketing Service; USDA.

ACTION: Notice.

SUMMARY: The Agricultural Marketing Service (AMS) is announcing that lamb producers, feeders, seedstock producers, and first handlers of lamb and lamb products voting in a national referendum from February 2, 2009, through February 27, 2009, have approved the continuation of the Lamb Promotion, Research, and Information Order (Order).

FOR FURTHER INFORMATION CONTACT: Kenneth R. Payne, Chief; Marketing Programs Branch, Livestock and Seed Program; Agricultural Marketing Service (AMS), USDA, Room 2628-S; STOP 0251; 1400 Independence Avenue, SW.; Washington, DC 20250-0251, telephone number 202/720-1115, fax number 202/720-1125, or by e-mail at: Kenneth.Payne@ams.usda.gov.

SUPPLEMENTARY INFORMATION: Pursuant to the Commodity Promotion, Research, and Information Act of 1996 (Act) (7 U.S.C. 7411-7425), the Department of Agriculture conducted a referendum from February 2, 2009, through February 27, 2009, among eligible lamb producers, feeders, seedstock producers, and first handlers of lamb and lamb products to determine if the Order would continue to be effective. Procedures used in conducting this referendum are set forth in 7 CFR part 1280, subpart E. A final rule amending this subpart was published in the December 16, 2008, issue of the Federal Register (73 FR 76193).

Of the 1,971 valid ballots cast, 1,678 (85.1 percent) favored and 293 (14.9 percent) opposed the continuation of the Order. Additionally, of those persons who cast valid ballots in the referendum, those who favored the Order accounted for 93 percent of the total production voted, and those opposed account for 7 percent of the total production voted. For the program to continue, it must have been approved by at least a majority of those persons voting for approval who were engaged in the production, feeding, or slaughter of lambs during calendar year 2008 and who also represent a majority of the volume of lambs produced, fed, or slaughtered.

Therefore, based on the referendum results, the Secretary of Agriculture has determined that the required majority of eligible voters who voted in the nationwide referendum from February 2, 2009, through February 27, 2009, voted to continue the Order. As a result, the Lamb Checkoff Program will continue to be funded by a mandatory assessment on producers, seedstock producers (breeders), feeders, and exporters at the rate of one-half cent ($.005) per pound when live ovine animals are sold. The first handler, primarily packers, pay an additional $.30 cents per head on ovine animals purchased for slaughter. Importers are not assessed.

State Referendum Results
[February 2, 2009, through February 27, 2009]
State | Votes: Yes | Votes: No | Volume voted: Yes | Volume voted: No
Arizona | 5 | 0 | 50,794 | 0
California | 126 | 5 | 1,099,775 | 9,188
Colorado | 60 | 7 | 950,095 | 18,590
Georgia | 4 | 1 | 244 | 12
Idaho | 38 | 1 | 144,237 | 1,625
Illinois | 26 | 5 | 2,689 | 1,022
Indiana | 43 | 4 | 3,920 | 939
Iowa | 89 | 15 | 409,003 | 2,353
Kansas | 28 | 7 | 13,445 | 1,496
Kentucky | 24 | 1 | 3,741 | 450
Maine | 15 | 1 | 417 | 4
Maryland | 9 | 2 | 1,274 | 102
Massachusetts | 7 | 1 | 387 | 41
Michigan | 55 | 9 | 15,129 | 1,768
Minnesota | 66 | 16 | 27,367 | 4,348
Missouri | 39 | 9 | 9,605 | 526
Montana | 146 | 40 | 120,837 | 19,733
Nebraska | 25 | 10 | 5,575 | 2,112
Nevada | 9 | 1 | 30,916 | 6,000
New Hampshire | 7 | 2 | 844 | 434
New Jersey | 6 | 0 | 377 | 0
New Mexico | 15 | 2 | 7,459 | 54
New York | 21 | 10 | 3,603 | 5,881
North Carolina | 24 | 1 | 2,042 | 307
North Dakota | 25 | 11 | 8,287 | 1,425
Ohio | 100 | 24 | 19,934 | 5,209
Oregon | 51 | 9 | 37,179 | 4,373
Pennsylvania | 49 | 11 | 5,321 | 30,607
South Dakota | 92 | 43 | 69,216 | 82,413
Tennessee | 22 | 3 | 1,215 | 110
Texas | 158 | 6 | 203,437 | 47,536
Utah | 80 | 3 | 161,377 | 4,457
Virginia | 15 | 7 | 4,388 | 997
Washington | 35 | 0 | 23,677 | 0
West Virginia | 50 | 4 | 9,728 | 278
Wisconsin | 28 | 6 | 4,232 | 4,438
Wyoming | 72 | 11 | 212,224 | 11,406
Alabama, Alaska, Arkansas, Connecticut, Delaware, Florida, Hawaii, Louisiana, Mississippi, Oklahoma, Rhode Island, South Carolina, & Vermont ¹ | 14 | 5 | 6,092 | 10,407
National Totals | 1,678 | 293 | 3,670,082 | 280,641
¹ To ensure the confidentiality of the voting process, the results of States in which there were not at least 3 votes in total with a minimum of one vote in each category are combined for the purpose of this report.

Authority: 7 U.S.C. 7411-7425 and 7 U.S.C. 7401.

Dated: July 14, 2009.
David R. Shipman,
Acting Administrator, Agricultural Marketing Service.

[FR Doc. E9-17032 Filed 7-17-09; 8:45 am]

BILLING CODE 3410-02-P